CORPORATION FOR NATIONAL AND COMMUNITY SERVICE

Agency Information Collection Activities; Submission to the Office of Management and Budget for Review and Approval; Comment Request; AmeriCorps Child Care Benefit Forms; Proposed Information Collection; Comment Request

AGENCY: Corporation for National and Community Service.

ACTION: Notice.

SUMMARY: The Corporation for National and Community Service (CNCS) has submitted a public information collection request (ICR) entitled AmeriCorps Child Care Benefit Forms for review and approval in accordance with the Paperwork Reduction Act.

DATES: Comments may be submitted, identified by the title of the information collection activity, by October 18, 2018.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Courtney Russell, at 202-606-6723 or by email to crussell@cns.gov. Individuals who use a telecommunications device for the deaf (TTY-TDD) may call 1-800-833-3722 between 8:00 a.m. and 8:00 p.m. Eastern Time, Monday through Friday.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 6, 2018 at 83 FR 31531. This comment period ended September 4, 2018. No public comments were received from this Notice.

Title of Collection: AmeriCorps Child Care Benefit Forms.

OMB Control Number: 3045-0142. Type of Review: Renewal.

Respondents/Affected Public: AmeriCorps members and child care providers for AmeriCorps members.

Total Estimated Number of Annual Responses: 750 members, 1,500 child care providers.

Total Estimated Number of Annual Burden Hours: 1,313 hours.

Abstract: CNCS is soliciting comments concerning its Child Care application forms. These forms are submitted by members of AmeriCorps and by the child care providers identified by the member for the purpose of applying for, and receiving payment for, the care of children during the day while the member is in service. Completion of this information is required to be approved and required to receive payment for invoices. CNCS also seeks to continue using the currently approved information collection until the revised information collection is approved by OMB. CNCS seeks to renew the current information collection. The information collection will otherwise be used in the same manner as the existing application. CNCS also seeks to continue using the current application until the revised application is approved by OMB. The current application is due to expire on October 31, 2018.

Dated: September 12, 2018.
E. Dahlin,
Deputy Chief of Program Operations.

[FR Doc. 2018-20175 Filed 9-17-18; 8:45 am]

BILLING CODE 6050-28-P